SUSQUEHANNA RIVER BASIN COMMISSION

Commission Meeting

AGENCY: Susquehanna River Basin Commission.

ACTION: Notice.

SUMMARY: The Susquehanna River Basin Commission will hold its regular business meeting on March 8, 2018, in State College, Pennsylvania. Details concerning the matters to be addressed at the business meeting are contained in the Supplementary Information section of this notice.

DATES: The meeting will be held on Thursday, March 8, 2018, at 9 a.m.

ADDRESSES: The meeting will be held at The Penn Stater Hotel and Conference Center, Senate 23 Room, 215 Innovation Boulevard, State College, PA 16803.

FOR FURTHER INFORMATION CONTACT: Jason E. Oyler, General Counsel, 717-238-0423, ext. 1312.

SUPPLEMENTARY INFORMATION: The business meeting will include actions or presentations on the following items: (1) Presentation on the Susquehanna Flood Forecast and Warning System; (2) presentation of the Maurice Goddard Award; (3) FY-2019 budget reconciliation; (4) ratification/approval of contracts/grants; (5) rulemaking action to codify in the Commission's regulations and strengthen the Commission's Access to Records Policy providing rules and procedures for the public to request and receive the Commission's public records; (6) report on delegated settlements; and (7) Regulatory Program projects.

The Regulatory Program projects and the final rulemaking were the subject of public hearings conducted by the Commission on February 1, 2018, and November 2, 2017, respectively; notices for which were published in 83 FR 414, January 3, 2018, and 82 FR 47407, October 12, 2017, respectively.

The public is invited to attend the Commission's business meeting. Comments on the Regulatory Program projects and the final rulemaking were subject to a deadline of February 12, 2018, and November 13, 2017, respectively. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before March 2, 2018. Comments will not be accepted at the business meeting noticed herein.

Authority: Pub. L. 91-575, 84 Stat. 1509 et seq., 18 CFR parts 806, 807, and 808.

Dated: February 2, 2018.
Stephanie L. Richardson,
Secretary to the Commission.

[FR Doc. 2018-02460 Filed 2-6-18; 8:45 am]

BILLING CODE 7040-01-P